DEPARTMENT OF ENERGY

Agency Information Collection Activities: Proposed Voluntary Collection for Reliability, Survivability, Resiliency (RSR) Project

AGENCY: Department of Energy.

ACTION: Notice and request for OMB review and comment.

SUMMARY: The Office of Electricity Delivery and Energy Reliability, Infrastructure Security and Energy Restoration have submitted to the Office of Management and Budget (OMB) for clearance, a proposal for collection of information under the provisions of the Paper Work Reduction Act of 1995. The proposed collection will assist in identifying systemic problems and dependency issues impacting the energy sector's system-wide reliability, survivability and resiliency. This will also enhance pre-event planning to ensure a robust and resilient energy infrastructure in which continuity of business and service reliability are strengthened with industry cooperation.

DATES: Comments regarding this collection must be received on or before August 21, 2009. If you anticipate that you will be submitting comments, but find it difficult to do so within the period of time allowed by this notice, please advise the OMB Desk Officer of your intention to make a submission as soon as possible. The Desk Officer may be telephoned at 202-395-4650.

ADDRESSES: Written comments should be sent to the DOE Desk Officer, Office of Information and Regulatory Affairs, Office of Management and Budget, New Executive Office Building, Room 10102, 735 17th Street, NW., Washington, DC 20503.

And to Kenneth Friedman, Kenneth.friedman@hq.doe.gov, 202-586-0379, mailing address: Forrestal Building, U.S. Department of Energy, Washington, DC 20585.

FOR FURTHER INFORMATION CONTACT: Requests for additional information on the information collection process and instructions should be directed to Kenneth Friedman, 202-586-0379, or at kenneth.friedman@hq.doe.gov. Mailing address is Forrestal Building, U.S. Department of Energy, Washington, DC 20585.

SUPPLEMENTARY INFORMATION: This information collection request contains: (1) OMB No. New; (2) Information Collection Request for Reliability, Survivability, Resiliency (RSR) Project; (3) Type of Request: New Collection; (4) Purpose: DOE's Office of Electricity Delivery and Energy Reliability and the Infrastructure Security and Energy Restoration Division have launched the RSR Project to support the goals of the Energy Sector Specific plan (SSP) to ensure a robust and resilient energy infrastructure in which continuity of business and service reliability are strengthened. In cooperation with energy sector industry, the RSR Project will assist in identifying systemic problems and dependency issues that may impact system wide reliability, survivability and resiliency within the energy sector. Categories of information will include operational issues from recent history, controls safeguarding assets, supply chain critical suppliers, evaluation of emergency response, and mitigation of disruptions, consequence impact to business continuity and service, impact on local area, restoration and recovery time. The collected data will generate reports for ISER that will support pre-event planning. Feedback will be provided to industry that will address potential restoration concerns.

(5) Type of Respondents: Energy Sector Private Industry as voluntary participants (6) Estimated number of Respondents: 1500 industry participants. (7) Estimated number of Burden Hours: 30,000 hours based on 20 hours maximum time per site for a total of 1,500 sites. There is no requirement for record keeping and no requirement for annual reporting.

Statutory Authority: Department of Energy Organization Act (DOE Act), 42 U.S.C. 7101 et seq., the Federal Power Act, 16 U.S.C. 792 et seq. Section 101(e) of the USA Patriot Act of 2001 (42 U.S.C. 5195c). Homeland Security Presidential Directive/HSPD7.

Issued in Washington, DC, on July 13, 2009.
William N. Bryan,
Deputy Assistant Secretary, Infrastructure Security & Energy Restoration.

[FR Doc. E9-17379 Filed 7-21-09; 8:45 am]

BILLING CODE 6450-01-P